DEPARTMENT OF THE INTERIOR

Bureau of Land Management

[BLM_OR_FRN_MO4500172774]

Public Meeting for the Steens Mountain Advisory Council, Oregon

AGENCY: Bureau of Land Management, Interior.

ACTION: Notice of public meeting.

SUMMARY: In accordance with the Federal Land Policy and Management Act of 1976 and the Federal Advisory Committee Act of 1972, the U.S. Department of the Interior, Bureau of Land Management's (BLM) Steens Mountain Advisory Council (SMAC) will meet as follows.

DATES: The SMAC will hold a meeting Thursday, October 19, from 10:15 a.m. to 3:30 p.m. Pacific Time (PT), and Friday, October 20, from 8:30 to 11:30 a.m. PT.

ADDRESSES: The meeting will be held at the BLM Burns District Office at 28910 Highway 20 West, Hines, Oregon. Virtual attendance through the Zoom for Government platform will also be available. The final meeting agenda and Zoom link will be published on the SMAC web page at least 10 days in advance at https://on.doi.gov/2PnZRcl.

FOR FURTHER INFORMATION CONTACT: Tara Thissell, Public Affairs Specialist, BLM Burns District Office, 28910 Highway 20 West, Hines, Oregon 97738; telephone: (541) 573-4519; email: tthissell@blm.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: The SMAC was established on August 14, 2001, pursuant to the Steens Mountain Cooperative Management and Protection Act of 2000 (Pub. L. 106-399), to provide recommendations to the BLM regarding new and unique approaches to management of the public lands within the bounds of the Steens Mountain Cooperative Management and Protection Area and cooperative programs and incentives for landscape management that meet human needs, and to advise the BLM on potential maintenance and improvement of the ecological and economic integrity of the area.

Agenda items for October 19 include reports from the Designated Federal Officer and Andrews/Steens Mountain Resource Area Field Manager; an introduction to strategic planning for the SMAC; 2023 recreation program recap; information sharing about the Inflation Reduction Act; discussion about the Bridge Creek Area Allotment Management Plan Environmental Impact Statement; and an opportunity for SMAC members to share information from their constituents or present research.

Agenda items for October 20 include a discussion about the Page Springs Weir; information sharing about “reasonable use” as written in the Steens Act; and continued discussion about strategic planning for the SMAC. An optional field trip at noon to the BLM's Wild Horse Corral Facility in Hines is available. The field trip will depart from the BLM Burns District Office. The public is welcome to attend and must provide their own transportation. Any other matters that may reasonably come before the SMAC may also be included at any time throughout the meetings.

Public comment periods are scheduled for 2:15 p.m. PT on Thursday, October 19, and 10:45 a.m. PT on Friday, October 20. Depending on the number of people wishing to comment and the time available, the amount of time for oral comments may be limited. Written public comments may be sent to the BLM Burns District Office listed in the FOR FURTHER INFORMATION CONTACT section of this notice. All comments received at least 1 week prior to the meeting will be provided to the SMAC prior to the meeting. The meeting may end early if all business items are completed ahead of schedule or may be extended if discussions warrant more time. All meetings, including virtual sessions, are open to the public in their entirety.

Please make requests in advance for sign language interpreter services, assistive listening devices, or other reasonable accommodations. We ask that you contact the person listed in the FOR FURTHER INFORMATION CONTACT section of this notice at least 7 business days prior to the meeting to give the BLM sufficient time to process your request. All reasonable accommodation requests are managed on a case-by-case basis.

Public Disclosure of Comments: Before including your address, phone number, email address, or other personal identifying information in your comments, please be aware that your entire comment—including your personal identifying information—may be made publicly available at any time. While you can ask us in your comment to withhold your personal identifying information from public review, we cannot guarantee that we will be able to do so.

(Authority: 5 U.S.C. ch. 10)

Jeffrey Rose,
District Manager.

[FR Doc. 2023-19052 Filed 9-1-23; 8:45 am]

BILLING CODE 4331-24-P